DEPARTMENT OF HOMELAND SECURITY

Coast Guard

33 CFR Part 160

[USCG-2002-11865]

RIN 1625-AA41

Notification of Arrival in U.S. Ports

AGENCY: Coast Guard, DHS.

ACTION: Final rule; partial suspension of regulation.

SUMMARY: The Coast Guard is suspending the Notification of Arrival requirement to electronically submit cargo manifest information, (Customs Form 1302) to Customs and Border Protection. This requirement was published on Feb 28, 2003 and was to be implemented by July 1, 2003. The Coast Guard is suspending this submission requirement pending new Customs and Border Protection regulations.

DATES: This suspension is effective May 22, 2003.

ADDRESSES: Material received from the public, as well as documents mentioned in this preamble as being available in the docket, are part of docket USCG-2002-11865 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, call LTJG Kimberly B Andersen, U.S. Coast Guard (G-MPP), at 202-267-2562. If you have questions on viewing or submitting material to the docket, call Dorothy Beard, Chief, Dockets, Department of Transportation, at 202-366-5149.

SUPPLEMENTARY INFORMATION:

Background and Purpose

On February 28, 2003, the Coast Guard published its “Notification of Arrival in U.S. Ports” in the Federal Register (68 FR 9537). This final rule, which became effective on April 1, 2003, permanently replaced the Coast Guard's temporary requirements for Notification of Arrival in U.S. Ports published on October 4, 2001, in the Federal Register (66 FR 50565) and was in addition to the Customs October 31, 2002 rule requiring cargo information 24 hours prior to lading (67 FR 66318).

This final rule requires electronic submission of cargo manifest (Customs form 1302) to Customs and Border Protection via the Automated Manifest System (AMS). Implementation of the requirement for electronic submission of cargo manifest is not required until July 1, 2003.

The cargo manifest submission requirement was established to capture electronically the information on cargo manifest from vessels that were not filing the information electronically with the Customs and Border Protection. While July 1, 2003, is the date for implementing the requirement to electronically transmit data through AMS that is set forth in the Final Rule published on February 28, 2003, the Coast Guard, in consultation with Customs and Border Protection, has decided to suspend the July 1, 2003 implementation date. The date is suspended pending further Custom and Border Protection regulatory action under recent legislation, including the Trade Act of 2002, which should eliminate the need for this requirement in Coast Guard regulations. In that event, the Coast Guard would remove the suspended provisions from its regulation.

List of Subjects in 33 CFR Part 160

Administrative practice and procedure; Harbors; Hazardous materials transportation; Marine safety; Navigation (water); Reporting and recordkeeping requirements; Vessels; Waterways.

For the reasons discussed in the preamble, the Coast Guard amends 33 CFR Part 160 as follows:

PART 160—PORTS AND WATERWAYS SAFETY—GENERAL

Subpart C—Notifications of Arrival, Departures, Hazardous Conditions, and Certain Dangerous Cargoes

1. The authority citation for Part 160 is revised to read as follows:

Authority: 33 U.S.C. 1223, 1226, 1231; Department of Homeland Security Delegation No. 0170.

§ 160.203 [Amended]

2. In § 160.203, paragraphs (d) and (e) are suspended.

§ 160.206 [Amended]

3. In § 160.206, item (8) in table 160.206, is suspended.

§ 160.210 [Amended]

4. In § 160.210, in paragraph (b), the last sentence in the paragraph is suspended; in paragraph (c), the last sentence in the paragraph is suspended; and paragraph (d) is suspended.

§ 160.212 [Amended]

5. In § 160.212, paragraph (c) is suspended.

Dated: May 5, 2003.
Paul J. Pluta,
Assistant Commandant for Marine Safety, Security and Environmental Protection.

[FR Doc. 03-12887 Filed 5-21-03; 8:45 am]

BILLING CODE 4910-15-P